DEPARTMENT OF TRANSPORTATION

Federal Aviation Administration

Notice of Intent To Rule on Application 03-04-C-00-PIH To Impose and Use the Revenue From a Passenger Facility Charge (PFC) at Pocatello Regional Airport, Submitted by the City of Pocatello, Pocatello Regional Airport, Pocatello, ID

AGENCY: Federal Aviation Administration (FAA), DOT.

ACTION: Notice of intent to rule on application.

SUMMARY: The FAA proposes to rule and invites public comment on the application to impose and use PFC revenue at Pocatello Regional Airport under the provisions of 49 U.S.C. 40117 and part 158 of the Federal Aviation Regulations (14 CFR part 158).

DATES: Comments must be received on or before November 3, 2003.

ADDRESSES: Comments on this application may be mailed or delivered in triplicate to the FAA at the following address: Mr. J.Wade Bryant, Manager; Seattle Airports District Office, SEA-ADO; Federal Aviation Administration; 1601 Lind Avenue SW, Suite 250, Renton, Washington 98055-4056.

In addition, one copy of any comments submitted to the FAA must be mailed or delivered to Mr. Len Nelson, Airport Manager, at the following address: PO Box 4169, Pocatello, ID 83205.

Air Carriers and foreign air carriers may submit copies of written comments previously provided to Pocatello Regional Airport, under § 158.23 of part 158.

FOR FURTHER INFORMATION CONTACT: Ms. Suzanne Lee-Pang, (425) 227-2654, Seattle Airports District Office, SEA-ADO; Federal Aviation Administration; 1601 Lind Avenue SW, Suite 250, Renton, Washington 98055—4056. The application may be reviewed in person at this same location.

SUPPLEMENTARY INFORMATION: The FAA proposes to rule and invites public comment on the application 03-04-C-00-PIH to impose and use PFC revenue at Pocatello Regional Airport, under the provisions of 49 U.S.C. 40117, and part 158 of the Federal Aviation Regulations (14 CFR part 158).

On September 23, 2003, the FAA determined that the application to impose and use the revenue from a PFC submitted by City of Pocatello, Pocatello Regional Airport, Pocatello, Idaho was substantially complete within the requirements of § 158.25 of part 158. The FAA will approve or disapprove the application, in whole or in part, no later than December 23, 2003.

The following is a brief overview of the application.

Level of the proposed PFC: $4.50.

Proposed charge effective date: January 1, 2005.

Proposed charge expiration date: March 1, 2008.

Total requested for approval: $456,500 ($306,500 for use).

Brief description of proposed projects:

Impose and Use Projects: Renovation of Taxiway A and Connectors, Parallel Taxiway for Runway 3/21, Lighting System; Pavement Condition (PCI) Survey Update and Wildlife Hazard Study; Taxiway F, D, and B Widening and Hold Apron for Runway End 3; Snow Removal Equipment Procurement—Plow; Security Enhancement; Wildlife Fencing; Construct New Airport Rescue and Fire Fighting (ARFF) Building.

Impose Only Project: Construction of Midfield Taxiway E.

Alternate Project: Reconstruction of Terminal Building Auto Parking Lots.

Class or classes of air carriers which the public agency has requested not be required to collect PFC's: non-scheduled air taxi/commercial operators, utilizing aircraft having seating capacity of less than 20 passengers.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Pocatello Regional Airport.

Issued in Renton, Washington on September 23, 2003.
David A. Field,
Manager, Planning, Programming and Capacity Branch, Northwest Mountain Region.

[FR Doc. 03-25050 Filed 10-2-03; 8:45 am]

BILLING CODE 4910-13-M